DEPARTMENT OF THE INTERIOR

Bureau of Land Management

[LLCONO134-09-L17110000-AL0000-241A]

Notice of Public Meetings, McInnis Canyons National Conservation Area Advisory Council Meeting

Authority: Pub. L. 106-353

AGENCY: Bureau of Land Management, Interior

ACTION: Announcement of meetings.

SUMMARY: The McInnis Canyons National Conservation Area (MCNCA) Advisory Council has scheduled one additional meeting for 2009. This meeting will be a non-voting work session designed to gather information. During this meeting, the Advisory Council will discuss matters related to future organization of the MCNCA Advisory Council. These meetings are open to the public and public input into representation by the MCNCA Advisory Council is desired.

DATES: The meeting date is: 1. May 7, 2009, Grand Junction, Colorado.

ADDRESSES: This work session will be held at the Bureau of Land Management Grand Junction Field Office, 2815 H. Road, at 6 p.m.

FOR FURTHER INFORMATION CONTACT: Katie A. Stevens, (970) 244-3000.

SUPPLEMENTARY INFORMATION: The McInnis Canyons National Conservation Area was established on October 24, 2000, when the President signed the Colorado Canyons National Conservation Area and Black Ridge Wilderness Act of 2000 (Act). The Act also required that an Advisory Council be established to provide advice in the preparation and implementation of the Resource Management Plan. The name of the NCA was congressionally changed at the end of 2004 from Colorado Canyons National Conservation Area to McInnis Canyons National Conservation Area (MCNCA). The Resource Management Plan has been completed and is now being implemented.

The agenda topics for the May meeting are:

(1) Future Role of Advisory Council: Continued function as a stand-alone Advisory Council or re-organized as a subgroup of the Northwest Resource Advisory Council.

(2) Public Comment Period

This meeting will be open to the public and will include time for public comment. Interested persons may make oral statements or submit written statements at the meeting. Per-person time limits for oral statements may be set to allow all interested persons to speak.

Summary minutes of all Council meetings will be maintained at the Bureau of Land Management Office in Grand Junction, Colorado. They are available for public inspection and reproduction during regular business hours within thirty (30) days following the meeting. In addition, minutes and other information concerning the MCNCA Advisory Council can be obtained from the MCNCA Web site at: http://www.co.blm.gov/mcnca/index.htm., which will be updated following each Advisory Council meeting.

This meeting does not replace the Advisory Council meeting scheduled for July 16, 2009, at 4 p.m. published 73 FR 249, Page 79503. This meeting will continue as planned at the Mesa County Administration Building; 544 Rood Avenue, Grand Junction, CO.

Dated: March 25, 2009.
Katie A. Stevens,
McInnis Canyons National Conservation Area Manager.

[FR Doc. E9-7931 Filed 4-6-09; 8:45 am]

BILLING CODE